DEPARTMENT OF TRANSPORTATION

Federal Highway Administration

Environmental Impact Statement; Grays Harbor County, WA

AGENCY: Federal Highway Administration (FHWA), DOT.

ACTION: Notice of intent.

SUMMARY: The Federal Highway Administration (FHWA) is issuing this notice to advise the public, affected Indian tribes and agencies that an environmental impact statement (EIS) will be prepared for the proposed development of a site to build pontoons that would be used to restore the function of the existing SR 520 Evergreen Point Bridge in case of catastrophic failure. The Washington State Department of Transportation (WSDOT) is a co-lead agency on the EIS. FHWA and WSDOT will prepare the EIS in accordance with the provisions of the National Environmental Policy Act (NEPA), the Safe, Accountable, Flexible, Efficient Transportation Equity Act: A Legacy for Users (SAFETEA-LU), and with Washington's State Environmental Policy Act (SEPA).

FOR FURTHER INFORMATION CONTACT: Stephen Boch, Federal Highway Administration, 915 2nd Avenue, Room 3142, Seattle, Washington, 98174, Telephone: (206) 220-7536; Jenifer Young, Washington State Department of Transportation, SR 520 Project Office, Seattle, Washington, Telephone: (206) 770-3522.

SUPPLEMENTARY INFORMATION: The purpose of the project is to expedite construction of pontoons to be used to restore the existing SR 520 Evergreen Point Bridge in the event of a catastrophic failure. To meet this purpose, the proposed action being evaluated in the EIS is to develop a facility to build pontoons that would be of appropriate size and type to restore the function of the existing floating bridge, and to store these pontoons until needed at open-water moorage locations or onsite. Other potential uses of the pontoons are to support future planned replacement of the Evergreen Point Bridge if the pontoons are not needed for emergency use, or support emergency replacement or repair of other WSDOT floating bridges.

WSDOT and FHWA, as lead agencies, have identified an underlying need of timely availability of new pontoons. (1) The SR 520 Evergreen Point Bridge is vulnerable to catastrophic failure; severe winter storms have damaged the 44-year-old bridge and rendered it increasingly vulnerable to windstorms and earthquakes. (2) The SR 520 Evergreen Point Bridge is a key regional transportation link. There is no available detour designed for, or capable of, accommodating the vehicles that cross the bridge each day at equivalent speeds or travel times. (3) It will take several years to produce SR 520 Evergreen Point Bridge pontoons. Currently, no existing facility in Washington has the capacity to quickly produce the number and size of pontoons that would be needed to replace the SR 520 bridge in the event of catastrophic failure. FHWA and WSDOT are seeking comment on the proposed purpose and need for the project, as required by SAFETEA-LU. Information on public and agency scoping meetings and address to send written comments to is provided below.

The proposed location for construction of pontoons is a 45 acre property in the City of Hoquiam, Grays Harbor County. Alternatives under initial consideration include: (1) Constructing a casting basin facility; (2) constructing a barge launch facility; (3) constructing a barge slip facility; and (4) No Build. Each “build” alternative will also include: improvements to the existing shoreline earthen berm and additional ancillary facilities, including a concrete batch plant, office space, parking area, access roads, rail spur, laydown area, and water treatment area. The EIS will evaluate potential effects on the physical, human, and natural environments. Areas of investigation include, but are not limited to: ecosystems, including threatened and endangered species, archaeological and historic resources, social and economic factors, land use, transportation, noise and vibration, air quality, soils and geology, hazardous materials, visual and aesthetic qualities, and public services and utilities.

The purpose of the Notice of Intent is to invite participation in the EIS process and comment from interested agencies, organizations, and citizens. In accordance with SAFETEA-LU, FHWA extended invitation to other Federal and non-Federal agencies and Indian tribes that may have an interest in being a “cooperating agency” or “participating agency” in December 2007. A public, agency and tribal coordination plan is being prepared. Agency and public scoping meetings will be held in January 2008. Scoping meetings are scheduled for the following date and times:

• Agency and Tribal Scoping Meeting: January 17, 2008, 10 a.m. to 12 p.m., Office of Superintendent of Public Instruction, Old Capital Building, Room 430, 600 South Washington, Olympia Washington.

• Public Scoping Meeting: January 17, 2008, 5:30 p.m. to 8 p.m., Hoquiam High School Cafeteria, 501 West Emerson Avenue, Hoquiam, Washington. A court reporter will be available to record oral comments.

To ensure that the full range of issues related to the proposed action are addressed, and all significant issues are identified, comments and suggestions are invited from all interested parties. Comments on the proposed purpose and need and the scope of alternatives and impacts to be considered are requested by February 1, 2008 and should be sent to: Jenifer Young, WSDOT-SR 520 Project Office, 600 Stewart Street, Suite 520, Seattle, WA, 98101; fax number (206) 770-3569; or e-mail to pontoons@wsdot.wa.gov.

(Catalog of Federal Domestic Assistance Program 20.205, Highway Research, Planning and Construction. The regulations implementing Executive Order 12372 regarding intergovernmental consultation of federal programs and activities apply to this program.)

Dated: December 20, 2007.
Stephen Boch,
Major Project Oversight Manager, Olympia, WA.

[FR Doc. E7-25164 Filed 1-2-08; 8:45 am]

BILLING CODE 4910-22-P